NUCLEAR REGULATORY COMMISSION

[NRC-2021-0076]

Environmental Assessments and Findings of No Significant Impact of Independent Spent Fuel Storage Facilities Decommissioning Funding Plans

AGENCY: Nuclear Regulatory Commission.

ACTION: Environmental assessment and finding of no significant impact; issuance.

SUMMARY: The U.S. Nuclear Regulatory Commission (NRC) is publishing this notice regarding the issuance of a final Environmental Assessment (EA) and a Finding of No Significant Impact (FONSI) for its review and approval of the initial and updated decommissioning funding plans (DFPs) submitted by independent spent fuel storage installation (ISFSI) licensees for the ISFSIs listed in the “Discussion” section of this document.

DATES: The EA and FONSI referenced in this document are available on April 14, 2021.

ADDRESSES: Please refer to Docket ID NRC-2021-0076 when contacting the NRC about the availability of information regarding this document. You may obtain publicly available information related to this document using any of the following methods:

• Federal Rulemaking website: Go to https://www.regulations.gov and search for Docket ID NRC-2021-0076. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

FOR FURTHER INFORMATION CONTACT: Yen-Ju Chen, telephone: 301-415-1018, email: Yen-Ju.Chen@nrc.gov or Bernard White, telephone: 301-415-6577, email: Bernard.White@nrc.gov. Both are staff of the Office of Nuclear Material Safety and Safeguards at the U.S. Nuclear Regulatory Commission, Washington, DC 20555-0001.

SUPPLEMENTARY INFORMATION:

I. Introduction

The NRC is considering the approval of the initial and updated DFPs submitted by ISFSI licensees. The NRC staff has prepared a final EA and FONSI determination for each of the initial and updated ISFSI DFPs in accordance with the NRC regulations in part 51 of title 10 of the Code of Federal Regulations (10 CFR), “Environmental Protection Regulations for Domestic Licensing and Related Regulatory Functions,” which implement the National Environmental Policy Act of 1969, as amended (42 U.S.C. 4321 et seq.).

The NRC requires its licensees to plan for the eventual decommissioning of their licensed facilities prior to license termination. On June 17, 2011, the NRC published a final rule in the Federal Register amending its decommissioning planning regulations (76 FR 35512). The final rule amended the NRC regulation, 10 CFR 72.30, which concerns financial assurance and decommissioning for ISFSIs. This regulation requires each holder of, or applicant for, a license under 10 CFR part 72 to submit a DFP for the NRC's review and approval. The DFP is to demonstrate the licensee's financial assurance, i.e., that funds will be available to decommission the ISFSI. The NRC staff will later publish its financial analyses of the DFP submittals which will be available for public inspection in ADAMS.

II. Discussion

The following table includes the plant name, docket number, licensee, and ADAMS Accession Number for the final EA and FONSI determination for each of the individual ISFSIs. The table also includes the ADAMS Accession Numbers for other relevant documents, including the initial and updated DFP submittals. For further details with respect to these actions, see the NRC staff's Final EA and FONSI determinations which are available for public inspection in ADAMS and at https://www.regulations.gov under Docket ID NRC-2021-0076. For additional direction on accessing information related to this document, see the ADDRESSES section of this document.

Finding of No Significant Impact
Facility: Big Rock Point
Docket No. | 72-43.
Licensee | Entergy Nuclear Operations, Inc. (Entergy).
Proposed Action | The NRC's review and approval of Entergy's initial and updated DFPs submitted in accordance with 10 CFR 72.30(b) and (c).
Environmental Impact of Proposed Action | The NRC staff has determined that the proposed action, the review and approval of Entergy's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Entergy's initial and updated DFPs. The scope of the proposed action does not include, and will not result in, the review and approval of decontamination or decommissioning activities or license termination for the ISFSI or for other parts of Big Rock Point. Therefore, the NRC staff determined that approval of the initial and updated DFPs for the Big Rock Point ISFSI will not significantly affect the quality of the human environment, and accordingly, the staff has concluded that a FONSI is appropriate. The NRC staff further finds that preparation of an environmental impact statement (EIS) is not required.
Available Documents | Entergy Nuclear Operations, Inc., 2012. ISFSI DFPs (10 CFR 72.30), dated December 13, 2012. ADAMS Accession No. ML12352A126. Entergy Nuclear Operations, Inc., 2013. ISFSI DFPs (10 CFR 72.30)—Correction Notice, dated January 8, 2013. ADAMS Accession No. ML13010A042. Entergy Nuclear Operations, Inc., 2015. ISFSI DFPs (10 CFR 72.30), dated December 17, 2015. ADAMS Accession No. ML15351A524. Entergy Nuclear Operations, Inc., 2018. Response to Request for Additional Information regarding ISFSI DFPs (10 CFR 72.30), dated June 4, 2018. ADAMS Accession No. ML18155A576. U.S. Nuclear Regulatory Commission. EA for Final Rule-Decommissioning Planning, dated February 1, 2009. ADAMS Accession No. ML090500648. U.S. Nuclear Regulatory Commission. Note to File, Re: ESA Section 7 No Effect Determination for ISFSI DFP Reviews, dated May 15, 2017. ADAMS Accession No. ML17135A062. U.S. Nuclear Regulatory Commission. Request for Additional Information Regarding Entergy Operations, Inc.'s DFP Update for Big Rock Point, Indian Point Nuclear Generating Stations Units 1, 2, and 3, Pilgrim Nuclear Power Station, Palisades Nuclear Plant, James A. Fitzpatrick Nuclear Power Plant, and Vermont Yankee Nuclear Power Station ISFSIs Docket Nos. 72-43, 72-51, 72-1044, 72-07, 72-12, and 72-59, dated April 5, 2018. ADAMS Accession No. ML18094B093. U.S. Nuclear Regulatory Commission. Final EA and FONSI for the Entergy Nuclear Operations, Inc's Initial and Updated DFPs Submitted in Accordance with 10 CFR 72.30(b) and (c) for Big Rock Point Nuclear Power Plant ISFSI, dated March 31, 2021. ADAMS Package Accession No. ML21062A269.
Facility: Indian Point Nuclear Generating Stations, Units 1, 2, and 3
Docket No. | 72-51.
Licensee | Entergy Nuclear Operations, Inc. (Entergy).
Proposed Action | The NRC's review and approval of Entergy's initial and updated DFPs submitted in accordance with 10 CFR 72.30(b) and (c).
Environmental Impact of Proposed Action | The NRC staff has determined that the proposed action, the review and approval of Entergy's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Entergy's initial and updated DFPs. The scope of the proposed action does not include, and will not result in, the review and approval of decontamination or decommissioning activities or license termination for the ISFSI or for other parts of Indian Point Nuclear Generating Stations, Units 1, 2, and 3. Therefore, the NRC staff determined that approval of the initial and updated DFPs for the Indian Point ISFSI will not significantly affect the quality of the human environment, and accordingly, the staff has concluded that a FONSI is appropriate. The NRC staff further finds that preparation of an environmental impact statement (EIS) is not required.
Available Documents | Entergy Nuclear Operations, Inc., 2012. ISFSI DFPs (10 CFR 72.30), dated December 13, 2012. ADAMS Accession No. ML12352A126.
| Entergy Nuclear Operations, Inc., 2013. ISFSI DFPs (10 CFR 72.30)—Correction Notice, dated January 8, 2013. ADAMS Accession No. ML13010A042.
| Entergy Nuclear Operations, Inc., 2015. ISFSI DFPs (10 CFR 72.30), dated December 17, 2015. ADAMS Accession No. ML15351A524.
| Entergy Nuclear Operations, Inc., 2018. Response to Request for Additional Information regarding ISFSI DFPs (10 CFR 72.30), dated June 4, 2018. ADAMS Accession No. ML18155A576.
| U.S. Nuclear Regulatory Commission. EA for Final Rule-Decommissioning Planning, dated February 1, 2009. ADAMS Accession No. ML090500648.
| U.S. Nuclear Regulatory Commission. Note to File, Re: ESA Section 7 No Effect Determination for ISFSI DFP Reviews, dated May 15, 2017. ADAMS Accession No. ML17135A062.
| U.S. Nuclear Regulatory Commission. Request for Additional Information Regarding Entergy Operations, Inc.'s DFP Update for Big Rock Point, Indian Point Nuclear Generating Stations Units 1, 2, and 3, Pilgrim Nuclear Power Station, Palisades Nuclear Plant, James A. Fitzpatrick Nuclear Power Plant, and Vermont Yankee Nuclear Power Station ISFSIs Docket Nos. 72-43, 72-51, 72-1044, 72-07, 72-12, and 72-59, dated April 5, 2018. ADAMS Accession No. ML18094B093.
| U.S. Nuclear Regulatory Commission. Order Approving Transfer of Licenses and Draft Conforming Administrative License Amendments, dated November 23, 2020. ADAMS Accession No. ML20297A325.
| U.S. Nuclear Regulatory Commission. Final EA and FONSI for the Entergy Nuclear Operations, Inc's Initial and Updated DFPs Submitted in Accordance with 10 CFR 72.30(b) and (c) for Indian Point Nuclear Generating Stations, Units 1, 2, and 3 ISFSI, dated April 7, 2021. ADAMS Package Accession No. ML21056A076.
Facility: Pilgrim Nuclear Power Station
Docket No. | 72-1044.
Licensee | Entergy Nuclear Operations, Inc. (Entergy), currently Holtec Pilgrim, LLC, and Holtec Decommissioning International, LLC.
Proposed Action | The NRC's review and approval of Entergy's initial and updated DFPs submitted in accordance with 10 CFR 72.30(b) and (c).
Environmental Impact of Proposed Action | The NRC staff has determined that the proposed action, the review and approval of Entergy's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Entergy's initial and updated DFPs. The scope of the proposed action does not include, and will not result in, the review and approval of decontamination or decommissioning activities or license termination for the ISFSI or for other parts of Pilgrim Nuclear Power Station. Therefore, the NRC staff determined that approval of the initial and updated DFPs for the Pilgrim ISFSI will not significantly affect the quality of the human environment, and accordingly, the staff has concluded that a FONSI is appropriate. The NRC staff further finds that preparation of an environmental impact statement (EIS) is not required.
Available Documents | Entergy Nuclear Operations, Inc., 2012. ISFSI DFPs (10 CFR 72.30), dated December 13, 2012. ADAMS Accession No. ML12352A126. Entergy Nuclear Operations, Inc., 2013. ISFSI DFPs (10 CFR 72.30)—Correction Notice, dated January 8, 2013. ADAMS Accession No. ML13010A042.
| Entergy Nuclear Operations, Inc., 2015. ISFSI DFPs (10 CFR 72.30), dated December 17, 2015. ADAMS Accession No. ML15351A524.
| Entergy Nuclear Operations, Inc., 2018. Response to Request for Additional Information regarding ISFSI DFPs (10 CFR 72.30), dated June 4, 2018. ADAMS Accession No. ML18155A576.
| U.S. Nuclear Regulatory Commission. EA for Final Rule-Decommissioning Planning, dated February 1, 2009. ADAMS Accession No. ML090500648.
| U.S. Nuclear Regulatory Commission. Note to File, Re: ESA Section 7 No Effect Determination for ISFSI DFP Reviews, dated May 15, 2017. ADAMS Accession No. ML17135A062.
| U.S. Nuclear Regulatory Commission. Request for Additional Information Regarding Entergy Operations, Inc.'s DFP Update for Big Rock Point, Indian Point Nuclear Generating Stations Units 1, 2, and 3, Pilgrim Nuclear Power Station, Palisades Nuclear Plant, James A. Fitzpatrick Nuclear Power Plant, and Vermont Yankee Nuclear Power Station ISFSIs Docket Nos. 72-43, 72-51, 72-1044, 72-07, 72-12, and 72-59, dated April 5, 2018. ADAMS Accession No. ML18094B093.
| U.S. Nuclear Regulatory Commission. Order Approving Direct and Indirect Transfer of License and Conforming Amendment, dated August 22, 2019. ADAMS Accession No. ML19170A265.
| U.S. Nuclear Regulatory Commission. Pilgrim Nuclear Power Station-Issuance of Amendment No. 249 Re: Order Approving Direct Transfer of Renewed Facility Operating License and ISFSI General License and Conforming Amendment, dated August 27, 2019. ADAMS Accession No. ML19235A050.
| U.S. Nuclear Regulatory Commission. Final EA and FONSI for the Entergy Nuclear Operations, Inc's Initial and Updated DFPs Submitted in Accordance With 10 CFR 72.30(b) and (c) for Pilgrim Nuclear Power Station ISFSI, dated March 31, 2021. ADAMS Package Accession No. ML21060B114.
Facility: Palisades Nuclear Plant
Docket No. | 72-07.
Licensee | Entergy Nuclear Operations, Inc. (Entergy).
Proposed Action | The NRC's review and approval of Entergy's initial and updated DFPs submitted in accordance with 10 CFR 72.30(b) and (c).
Environmental Impact of Proposed Action | The NRC staff has determined that the proposed action, the review and approval of Entergy's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Entergy's initial and updated DFPs. The scope of the proposed action does not include, and will not result in, the review and approval of decontamination or decommissioning activities or license termination for the ISFSI or for other parts of Palisades Nuclear Plant. Therefore, the NRC staff determined that approval of the initial and updated DFPs for the Palisades ISFSI will not significantly affect the quality of the human environment, and accordingly, the staff has concluded that a FONSI is appropriate. The NRC staff further finds that preparation of an environmental impact statement (EIS) is not required.
Available Documents | Entergy Nuclear Operations, Inc., 2012. ISFSI DFPs (10 CFR 72.30), dated December 13, 2012. ADAMS Accession No. ML12352A126. Entergy Nuclear Operations, Inc., 2013. ISFSI DFPs (10 CFR 72.30)—Correction Notice, dated January 8, 2013. ADAMS Accession No. ML13010A042. Entergy Nuclear Operations, Inc., 2015. ISFSI DFPs (10 CFR 72.30), dated December 17, 2015. ADAMS Accession No. ML15351A524. Entergy Nuclear Operations, Inc., 2018. Response to Request for Additional Information regarding ISFSI DFPs (10 CFR 72.30), dated June 4, 2018. ADAMS Accession No. ML18155A576. U.S. Nuclear Regulatory Commission. EA for Final Rule-Decommissioning Planning, dated February 1, 2009. ADAMS Accession No. ML090500648. U.S. Nuclear Regulatory Commission. Note to File, Re: ESA Section 7 No Effect Determination for ISFSI DFP Reviews, dated May 15, 2017. ADAMS Accession No. ML17135A062. U.S. Nuclear Regulatory Commission. Request for Additional Information Regarding Entergy Operations, Inc.'s DFP Update for Big Rock Point, Indian Point Nuclear Generating Stations Units 1, 2, and 3, Pilgrim Nuclear Power Station, Palisades Nuclear Plant, James A. Fitzpatrick Nuclear Power Plant, and Vermont Yankee Nuclear Power Station ISFSIs Docket Nos. 72-43, 72-51, 72-1044, 72-07, 72-12, and 72-59, dated April 5, 2018. ADAMS Accession No. ML18094B093. U.S. Nuclear Regulatory Commission. Final EA and FONSI for the Entergy Nuclear Operations, Inc's Initial and Updated DFPs Submitted in Accordance with 10 CFR 72.30(b) and (c) for Palisades Nuclear Plant ISFSI, dated March 30, 2021. ADAMS Package Accession No. ML21055A528.
Facility: James A. FitzPatrick Nuclear Power Plant
Docket No | 72-12.
Licensee | Entergy Nuclear Operations, Inc. (Entergy), currently Exelon FitzPatrick, LLC.
Proposed Action | The NRC's review and approval of Entergy's initial and updated DFPs submitted in accordance with 10 CFR 72.30(b) and (c).
Environmental Impact of Proposed Action | The NRC staff has determined that the proposed action, the review and approval of Entergy's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Entergy's initial and updated DFPs. The scope of the proposed action does not include, and will not result in, the review and approval of decontamination or decommissioning activities or license termination for the ISFSI or for other parts of James A. FitzPatrick Nuclear Power Plant. Therefore, the NRC staff determined that approval of the initial and updated DFPs for the FitzPatrick ISFSI will not significantly affect the quality of the human environment, and accordingly, the staff has concluded that a FONSI is appropriate. The NRC staff further finds that preparation of an environmental impact statement (EIS) is not required.
Available Documents | Entergy Nuclear Operations, Inc., 2012. ISFSI DFPs (10 CFR 72.30), dated December 13, 2012. ADAMS Accession No. ML12352A126.
| Entergy Nuclear Operations, Inc., 2013. ISFSI DFPs (10 CFR 72.30)—Correction Notice, dated January 8, 2013. ADAMS Accession No. ML13010A042.
| Entergy Nuclear Operations, Inc., 2015. ISFSI DFPs (10 CFR 72.30), dated December 17, 2015. ADAMS Accession No. ML15351A524.
| Entergy Nuclear Operations, Inc., 2018. Response to Request for Additional Information regarding ISFSI DFPs (10 CFR 72.30), dated June 4, 2018. ADAMS Accession No. ML18155A576.
| U.S. Nuclear Regulatory Commission. EA for Final Rule-Decommissioning Planning, dated February 1, 2009. ADAMS Accession No. ML090500648.
| U.S. Nuclear Regulatory Commission. Note to File, Re: ESA Section 7 No Effect Determination for ISFSI DFP Reviews, dated May 15, 2017. ADAMS Accession No. ML17135A062.
| U.S. Nuclear Regulatory Commission. James A. Fitzpatrick Nuclear Power Plant-Order Approving Direct Transfer of Renewed Facility Operating License and ISFSI General License and Conforming Amendment, dated March 1, 2017. ADAMS Accession No. ML17041A196.
| U.S. Nuclear Regulatory Commission. James A. Fitzpatrick Nuclear Power Plant—Issuance of Amendment Re: Application for Order to Transfer Renewed Facility Operating License, ISFSI General License, and Conforming Amendment from Entergy Nuclear Fitzpatrick, LLC. and Entergy Nuclear Operations, Inc., to Exelon Generation Company, LLC, dated March 31, 2017. ADAMS Accession No. ML17082A283.
| U.S. Nuclear Regulatory Commission. James A. Fitzpatrick Nuclear Power Plant-Order Approving Direct Transfer of Renewed Facility Operating License and ISFSI General License and Conforming Amendment, dated November 7, 2017. ADAMS Accession No. ML17240A069.
| U.S. Nuclear Regulatory Commission. James A. Fitzpatrick Nuclear Power Plant—Issuance of Amendment Re: Application for Order Approving Direct Transfer of Renewed Facility Operating License and ISFSI General License and Conforming Amendment, dated November 30, 2017. ADAMS Accession No. ML17313A077.
| U.S. Nuclear Regulatory Commission. Request for Additional Information Regarding Entergy Operations, Inc.'s DFP Update for Big Rock Point, Indian Point Nuclear Generating Stations Units 1, 2, and 3, Pilgrim Nuclear Power Station, Palisades Nuclear Plant, James A. Fitzpatrick Nuclear Power Plant, and Vermont Yankee Nuclear Power Station ISFSIs Docket Nos. 72-43, 72-51, 72-1044, 72-07, 72-12, and 72-59, dated April 5, 2018. ADAMS Accession No. ML18094B093.
| U.S. Nuclear Regulatory Commission. Final EA and FONSI for the Entergy Nuclear Operations, Inc's Initial and Updated DFPs Submitted in Accordance with 10 CFR 72.30(b) and (c) for James A. FitzPatrick Nuclear Power Plant ISFSI, dated March 30, 2021. ADAMS Package Accession No. ML21056A543.
Facility: Vermont Yankee Nuclear Power Station
Docket No | 72-59.
Licensee | Entergy Nuclear Operations, Inc. (Entergy), currently NorthStar Decommissioning Company, LLC (NorthStar).
Proposed Action | The NRC's review and approval of Entergy's initial and updated DFPs submitted in accordance with 10 CFR 72.30(b) and (c).
Environmental Impact of Proposed Action | The NRC staff has determined that the proposed action, the review and approval of Entergy's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Entergy's initial and updated DFPs. The scope of the proposed action does not include, and will not result in, the review and approval of decontamination or decommissioning activities or license termination for the ISFSI or for other parts of Vermont Yankee Nuclear Power Station. Therefore, the NRC staff determined that approval of the initial and updated DFPs for the Vermont Yankee ISFSI will not significantly affect the quality of the human environment, and accordingly, the staff has concluded that a FONSI is appropriate. The NRC staff further finds that preparation of an environmental impact statement (EIS) is not required.
Available Documents | Entergy Nuclear Operations, Inc., 2012. ISFSI DFPs (10 CFR 72.30), dated December 13, 2012. ADAMS Accession No. ML12352A126. Entergy Nuclear Operations, Inc., 2013. ISFSI DFPs (10 CFR 72.30)—Correction Notice, dated January 8, 2013. ADAMS Accession No. ML13010A042. Entergy Nuclear Operations, Inc., 2015. ISFSI DFPs (10 CFR 72.30), dated December 17, 2015. ADAMS Accession No. ML15351A524. Entergy Nuclear Operations, Inc., 2018. Response to Request for Additional Information regarding ISFSI DFPs (10 CFR 72.30), dated June 4, 2018. ADAMS Accession No. ML18155A576. U.S. Nuclear Regulatory Commission. EA for Final Rule-Decommissioning Planning, dated February 1, 2009. ADAMS Accession No. ML090500648. U.S. Nuclear Regulatory Commission. Note to File, Re: ESA Section 7 No Effect Determination for ISFSI DFP Reviews, dated May 15, 2017. ADAMS Accession No. ML17135A062. U.S. Nuclear Regulatory Commission. Request for Additional Information Regarding Entergy Operations, Inc.'s DFP Update for Big Rock Point, Indian Point Nuclear Generating Stations Units 1, 2, and 3, Pilgrim Nuclear Power Station, Palisades Nuclear Plant, James A. Fitzpatrick Nuclear Power Plant, and Vermont Yankee Nuclear Power Station ISFSIs Docket Nos. 72-43, 72-51, 72-1044, 72-07, 72-12, and 72-59, dated April 5, 2018. ADAMS Accession No. ML18094B093. U.S. Nuclear Regulatory Commission. Order Approving the Transfer of License and Conforming Amendment, dated October 11, 2018. ADAMS Accession No. ML18248A096. U.S. Nuclear Regulatory Commission. Vermont Yankee Nuclear Power Station—Issuance of Amendment Re: Application for Order Approving Direct and Indirect Transfer of Renewed Facility Operating License and ISFSI General License and Conforming Amendment, dated January 11, 2019. ADAMS Accession No. ML18347B360. U.S. Nuclear Regulatory Commission. Final EA and FONSI for the Entergy Nuclear Operations, Inc's Initial and Updated DFPs Submitted in Accordance with 10 CFR 72.30(b) and (c) for Vermont Yankee Nuclear Power Station ISFSI, dated March 20, 2021. ADAMS Package Accession No. ML21055A833.

Dated: April 8, 2021.
For the Nuclear Regulatory Commission.
John B. McKirgan,
Chief, Storage and Transportation Licensing Branch, Division of Fuel Management, Office of Nuclear Material Safety and Safeguards.

[FR Doc. 2021-07582 Filed 4-13-21; 8:45 am]

BILLING CODE 7590-01-P